DEPARTMENT OF COMMERCE

National Oceanic and Atmospheric Administration

RIN 0648-XA310

National Marine Fisheries Service (NMFS), National Oceanic and Atmospheric; Public Meeting

AGENCY: National Marine Fisheries Service (NMFS), National Oceanic and Atmospheric Administration (NOAA), Commerce.

ACTION: Notice of a public meeting.

SUMMARY: The NOAA Fisheries will hold a Workshop to discuss the data and models that will be used in the 2011 stock assessments for sablefish, petrale sole and Dover sole.

DATES: The Pre-assessment Workshop will be held beginning at 9 a.m., Tuesday, April 5, 2011 and end at 5:30 p.m. or as necessary to complete business for the day. The Workshop will reconvene on Wednesday, April 6 at 9 a.m. and will adjourn by 1 p.m.

ADDRESSES: The Pre-assessment Workshop for sablefish, Dover sole and petrale sole will be held at the Hallmark Resort, 744 S.W. Elizabeth Street, Newport, OR 97365; telephone: (1-888) 448-4449.

Science Center address: DOC, NOAA Fisheries, Northwest Fisheries Science Center, Newport Research Station—Bldg. 955, 2032 S.E. OSU Drive, Newport, OR 97365-5275; telephone: (541) 867-0500.

FOR FURTHER INFORMATION CONTACT: Ms. Stacey Miller, NMFS Northwest Fisheries Science Center; telephone: (541) 961-8475; or Dr. Jim Hastie, Northwest Fisheries Science Center (NWFSC); telephone: (206) 860-3412.

SUPPLEMENTARY INFORMATION: This Pre-Assessment Workshop is intended to provide a forum for the exchange of information and ideas between members of the fishing community and other members of the public, stock assessment authors, and data managers. The specific objectives of the workshop are to: (1) Discuss the data to be used in the sablefish, petrale sole and Dover sole stock assessment models; (2) discuss approaches for improving stock assessment modeling efforts; (3) identify anomalies in the data and discuss possible explanations; and (4) identify data gaps and future research possibilities.

Although non-emergency issues not contained in the meeting agenda may come before the Workshop participants for discussion, those issues may not be the subject of formal Workshop action during this meeting. Workshop action will be restricted to those issues specifically listed in this notice and any issues arising after publication of this notice that require emergency action under section 305(c) of the Magnuson-Stevens Fishery Conservation and Management Act, provided the public has been notified of the workshop participants' intent to take final action to address the emergency.

Special Accommodations

This meeting is physically accessible to people with disabilities. Requests for sign language interpretation or other auxiliary aids should be directed to Ms. Stacey Miller at (541) 961-8475 at least 5 days prior to the meeting date.

Dated: March 16, 2011.
Tracey L. Thompson,
Acting Director, Office of Sustainable Fisheries, National Marine Fisheries Service.

[FR Doc. 2011-6594 Filed 3-21-11; 8:45 am]

BILLING CODE 3510-22-P